DEPARTMENT OF ENERGY

Annual Public Meeting of the Interagency Steering Committee on Multimedia Environmental Modeling

AGENCY: Office of Environmental Management, Department of Energy.

ACTION: Notice of meeting.

SUMMARY: The annual public meeting of the Federal Interagency Steering Committee on Multimedia Environmental Modeling (ISCMEM) will convene to discuss the latest developments in environmental modeling applications, tools and frameworks as well as new operational initiatives for FY 2014 among the participating agencies. This meeting is re-scheduled from October 22-23, 2013 due to Federal government shutdown that was caused by a lapse in Congressional appropriations. The meeting will be hosted by the U.S. Department of Energy (U.S. DOE), one of the participants in the ISCMEM, at its Forrestal Building Main Auditorium at 1000 Independence Avenue SW., Washington, DC 20585 adjacent to the Smithsonian Metrorail Station. The meeting is open to the public and all interested parties may attend.

DATES: February 25, 2014, from 8:00 a.m. to 5:30 p.m., Eastern Standard Time (EST) and February 26, 2014, from 8:30 a.m. to noon, EST.

ADDRESSES: U.S. Department of Energy, Forrestal Building, Main Auditorium (Room GE-086), 1000 Independence Avenue SW., Washington, DC 20585.

FOR FURTHER INFORMATION CONTACT: For Federal and contractor employees with valid government badge, pre-registration may be accomplished through the ISCMEM public Web site: http://iemhub.org/topics/iscmem. Instructions for registration of Federal and contractor employees through the Web site may be requested by email to Whelan.Gene@epamail.epa.gov. Other U.S. attendees need to provide name, citizenship, and company information to Ming.Zhu@em.doe.gov to pre-register before February 14, 2014. Foreign nationals need to contact Justin.Marble@em.doe.gov for registration requirements, and pre-register before February 11, 2014. Other inquiries may be addressed to: Dr. Ming Zhu, ISCMEM Chair, U.S. Department of Energy, Office of Environmental Management, 1000 Independence Ave. SW., Washington, DC 20585, Tel 301-903-9240, Ming.Zhu@em.doe.gov.

SUPPLEMENTARY INFORMATION: Background: In 2001, six Federal agencies began formal cooperation under a Memorandum of Understanding (MOU) on the research and development of multimedia (i.e. air, soil, water) environmental models. This MOU established the Federal Interagency Steering Committee on Multimedia Environmental Modeling (ISCMEM). The MOU was revised and renewed in 2006 and again in 2011. The MOU establishes a framework for facilitating cooperation and coordination among research organizations in the participating agencies. So far, seven agencies have signed the current renewal of the MOU: The U.S. Army Corps of Engineers (Engineer Research and Development Center); the U.S. Department of Agriculture (National Resources Conservation Service); the U.S. Department of Energy (Office of Environmental Management); the U.S. Department of the Interior (U.S. Geological Survey); the U.S. Environmental Protection Agency (Office of Research and Development); the U.S. National Science Foundation (Geosciences Directorate); and the U.S. Nuclear Regulatory Commission (Office of Nuclear Regulatory Research). Other agencies are considering signing the revised MOU.

In ISCMEM, agencies cooperate and coordinate in research and development of all aspects of multimedia environmental modeling. This includes development and enhancements of software, databases, and interoperability, and applications and assessment of site specific, generic, and process-oriented multimedia environmental models as they pertain to human and environmental health risk assessment. Multimedia environmental model development and simulation supports interagency interests in risk assessment, uncertainty analyses, management of geologic, hydrologic, atmospheric, terrestrial, and ecological resources, and decision making. The theme of this year's annual public meeting is “How environmental modeling plays a role in decision making”. The topics to be discussed focus on: (1) Citizen science, crowd sourcing, and social media; (2) environment and energy; (3) energy/water nexus; (4) climate change; and (5) water resources management.

Purpose of the Public Meeting: The annual public meeting provides an opportunity for the scientific community, ISCMEM members and other Federal and State agencies, and the public to discuss ISCMEM activities and their initiatives for the upcoming year, and to discuss technological advancements in multimedia environmental modeling.

Proposed Agenda: The ISCMEM Chair will open the meeting with a brief overview of the goals of the MOU and an update on current activities and future plans of ISCMEM. This introduction will be followed by a series of invited technical presentations for the remainder of the first day, focusing on topics of mutual interest to ISCMEM participants. The steering committee will hold an open business session on the morning of the second day. A detailed agenda with presentation titles and speakers will be posted on the ISCMEM public Web site: http://iemhub.org/topics/iscmem. The agenda and instructions for registration will also be available through the list of public meetings on the US Nuclear Regulatory Commission Web site at http://www.nrc.gov/public-involve/public-meetings.html.

Meeting Access: The meeting location at the U.S. DOE Forrestal Building, Main Auditorium (Room GE-086) is located at 1000 Independence Avenue SW., Washington, DC 20585 adjacent to the Smithsonian Metrorail Station. The meeting facility is wheelchair accessible. Please allow time to register with U.S. DOE visitor security check-in at the main lobby and bring two photo IDs. Direct access to the meeting room is on the same level as the visitor security check-in. Refer to the above section FOR FURTHER INFORMATION CONTACT for pre-registration requirements.

Ming Zhu,
Chair, Federal Interagency Steering Committee on Multimedia Environmental Modeling.

[FR Doc. 2014-01715 Filed 1-28-14; 8:45 am]

BILLING CODE 6450-01-P